DEPARTMENT OF LABOR

Employment and Training Administration

[TA-W-65,300]

Tube City IMS Inc., Ecorse, MI; Notice of Termination of Investigation

Pursuant to Section 221 of the Trade Act of 1974, as amended, an investigation was initiated on February 19, 2009 in response to a petition filed by the United Steelworkers of America, Local 1299 on behalf of workers of Tube City IMS Inc., Ecorse, Michigan.

The petitioners have requested that the petition be withdrawn. Therefore, the investigation under this petition has been terminated.

Signed at Washington, DC, this 2nd day of April, 2009.
Linda G. Poole,
Certifying Officer, Division of Trade Adjustment Assistance.

[FR Doc. E9-10376 Filed 5-5-09; 8:45 am]

BILLING CODE 4510-FN-P